ENVIRONMENTAL PROTECTION AGENCY

[FRL-6927-5]

FY2001-2002 USEPA Great Lakes National Program Office Request for Preproposals

AGENCY: Environmental Protection Agency (EPA)—Great Lakes National Program Office.

ACTION: Notice of funding availability.

SUMMARY: EPA's Great Lakes National Program Office (GLNPO) is now requesting the submission of preproposals for GLNPO funding through the “FY2001-2002 USEPA Great Lakes National Program Office Request for Preproposals” (RFP). The RFP solicits preproposals for assistance projects in the areas of Contaminated Sediments, Pollution Prevention and Reduction, Ecological (Habitat) Protection and Restoration, Invasive Species, Indicator Development, and Emerging Issues.

DATES: The deadline for submission of preproposals is February 16, 2001.

DOCUMENT AVAILABILITY: The RFP is available on the Internet at http://www.epa.gov/glnpo/fund/2001guid/. It is also available from Lawrence Brail (312-886-7474/brail.lawrence@epa.gov).

FOR FURTHER INFORMATION CONTACT: Mike Russ, EPA-GLNPO, G-17J, 77 West Jackson Blvd., Chicago, IL 60604 (312-886-4013/russ.michael@epa.gov).

SUPPLEMENTARY INFORMATION: USEPA's Great Lakes National Program Office is targeting a total of $3.15 million to award in the summer and fall of FY 2001 for Great Lakes projects pertaining to: Contaminated Sediments; Pollution Prevention and Reduction (Binational Toxics Strategy); Ecological (Habitat) Protection and Restoration; Invasive Species; Indicator Development; and Strategic or Emerging Issues. Indicator Development is a new category, building upon work done through the State of the Lakes Ecosystem Conferences. Assistance (through grants, cooperative agreements, and interagency agreements) is available pursuant to Clean Water Act section 104(b)(3) for activities in the Great Lakes Basin and in support of the Great Lakes Water Quality Agreement. State pollution control agencies, interstate agencies, other public or nonprofit private agencies, institutions, and organizations are eligible to apply. Potential applicants can find the Request for Preproposals, including evaluation criteria and the Preproposal development and submittal program, on the Internet at http://www.epa.gov/glnpo/fund/2001guid/.

Dated: December 20, 2000.
Gary V. Gulezian,
Director, Great Lakes National Program Office.

[FR Doc. 00-33426 Filed 12-27-00; 8:45 am]

BILLING CODE 6560-50-P